DEPARTMENT OF ENERGY

Federal Energy Regulatory Commission

[Docket Nos. RP01-236-003, RP00-481-003, and RP00-553-006]

Transcontinental Gas Pipe Line Corporation; Notice of Compliance Filing

November 2, 2001.

Take notice that on October 29, 2001, in compliance with the Commission's order issued September 27, 2001 in the referenced dockets, (September 27 Order), Transcontinental Gas Pipe Line Corporation (Transco) submitted its compliance filing to further explain certain aspects of its filings in the referenced dockets, and to submit certain revised tariff sheets to its FERC Gas Tariff, Third Revised Volume No. 1, to comply with the Commission's directives in the September 27 Order. The revised tariff sheets, which are enumerated in Appendix A to the filing, are proposed to be effective as described more fully therein.

Any person desiring to protest said filing should file a protest with the Federal Energy Regulatory Commission, 888 First Street, NE., Washington, DC 20426, in accordance with section 385.211 of the Commission's Rules and Regulations. All such protests must be filed in accordance with section 154.210 of the Commission's Regulations. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Acting Secretary.

[FR Doc. 01-28035 Filed 11-7-01; 8:45 am]

BILLING CODE 6717-01-P